DEPARTMENT OF ENERGY

Federal Energy Regulatory Commission

Combined Notice of Filings #1

Take notice that the Commission received the following electric rate filings:

Docket Numbers: ER04-157-034; ER04-714-023; EL05-89-012.

Applicants: Bangor Hydro-Electric Company, Florida Power & Light Company—New England Division, Maine Public Utilities Commission v. Central Maine Power Company.

Description: Schedule 21-NEP Refund Report of New England Power Company.

Filed Date: 3/27/12.

Accession Number: 20120327-5247.

Comments Due: 5 p.m. ET 4/17/12.

Docket Numbers: ER12-1244-001.

Applicants: RLD Resources, LLC.

Description: Amended eTariff Filing to be effective 3/26/2012.

Filed Date: 3/27/12.

Accession Number: 20120327-5187.

Comments Due: 5 p.m. ET 4/17/12.

Docket Numbers: ER12-1301-001.

Applicants: Zone J Tolling Co., LLC.

Description: Zone J Tolling Co., LLC First Revised MBR Tariff to be effective 4/30/2012.

Filed Date: 3/28/12.

Accession Number: 20120328-5031.

Comments Due: 5 p.m. ET 4/18/12.

Docket Numbers: ER12-1365-000.

Applicants: NV Energy, Inc.

Description: Service Agreement No. 10-01257 Amended & Restated SGIA-Fotowatio to be effective 3/28/2012.

Filed Date: 3/27/12.

Accession Number: 20120327-5189.

Comments Due: 5 p.m. ET 4/17/12.

Docket Numbers: ER12-1366-000.

Applicants: Southwestern Public Service Company.

Description: 2012-3-28-SPS-GSEC-RBEC-S&S Sub IA 652 Filing to be effective 3/29/2012.

Filed Date: 3/28/12.

Accession Number: 20120328-5019.

Comments Due: 5 p.m. ET 4/18/12.

The filings are accessible in the Commission's eLibrary system by clicking on the links or querying the docket number.

Any person desiring to intervene or protest in any of the above proceedings must file in accordance with Rules 211 and 214 of the Commission's Regulations (18 CFR 385.211 and 385.214) on or before 5 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: March 28, 2012.
Nathaniel J. Davis, Sr.,
Deputy Secretary.

[FR Doc. 2012-8299 Filed 4-5-12; 8:45 am]

BILLING CODE 6717-01-P